DEPARTMENT OF COMMERCE

National Oceanic and Atmospheric Administration

[I.D. 050506A]

North Pacific Fishery Management Council; Public Meeting

AGENCY: National Marine Fisheries Service (NMFS), National Oceanic and Atmospheric Administration (NOAA), Commerce.

ACTION: Notice of a public meeting of the North Pacific Fishery Management Council's Pacific Northwest Crab Industry Advisory Committee (PNCIAC).

SUMMARY: The PNCIAC will hold a public meeting.

DATES: The meeting will be held on May 23, 2006, 9 a.m. until noon.

ADDRESSES: The meeting will be held at the Leif Erickson Lodge Hall, 2245 NW 57th Street, in Seattle, WA.

Council address: North Pacific Fishery Management Council, 605 W. 4th Ave., Suite 306, Anchorage, AK 99501-2252.

FOR FURTHER INFORMATION CONTACT: Diana Stram, Council staff, telephone: (907) 271-2809.

SUPPLEMENTARY INFORMATION:

Agenda:

(1) Review Alaska Department of Fish & Game analysis of observer data defining the extent of the problem of discarding in Bristol Bay king crab fishery; and (2) Initiate discussion about mechanisms, issues and incentives to improve retention of king crab and snow crab in the Bering Sea rationalized fisheries.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: May 5, 2006.
Tracey L. Thompson,
Acting Director, Office of Sustainable Fisheries, National Marine Fisheries Service.

[FR Doc. E6-7143 Filed 5-9-06; 8:45 am]

BILLING CODE 3510-22-S